DEPARTMENT OF TRANSPORTATION

Office of the Secretary

[Docket OST-99-6150]

Application of Smokey Bay Air, Inc., for Certificate Authority

AGENCY: Office of the Secretary, Department of Transportation.

ACTION: Notice of order to show cause (Order 2000-4-7).

SUMMARY: The Department of Transportation is directing all interested persons to show cause why it should not issue an order finding Smokey Bay Air, Inc., fit, willing, and able, and awarding it a certificate of public convenience and necessity to engage in interstate scheduled air transportation of persons, property, and mail using no more than three aircraft with no more than nine passengers seats each.

DATES: Persons wishing to file objections should do so no later than April 27, 2000.

ADDRESSES: Objections and answers to objections should be filed in the Docket OST-99-6150 and addressed to the Department of Transportation Dockets, US Department of Transportation, 400 Seventh Street, SW., Room PL-401, Washington, DC 20590, and should be served upon the parties listed in Attachment A to the order.

FOR FURTHER INFORMATION CONTACT: Mrs. Kathy Lusby Cooperstein, Air Carrier Fitness Division (X-56, Room 6401), U.S. Department of Transportation, 400 Seventh Street, SW., Washington, DC 20590, (202) 366-2337.

Dated: April 10, 2000.
Robert S. Goldner,
Acting Assistant Secretary for Aviation and International Affairs.

[FR Doc. 00-9403 Filed 4-14-00; 8:45 am]

BILLING CODE 4910-62-P